DEPARTMENT OF DEFENSE

Office of the Secretary

32 CFR Part 144

[Docket ID: DOD-2020-OS-0029]

RIN 0790-AK35

Service by Members of the Armed Forces on State and Local Juries

AGENCY: Office of the Under Secretary of Defense for Personnel and Readiness, Department of Defense (DoD).

ACTION: Final rule.

SUMMARY: This final rule removes the DoD regulation containing policy for jury service on State and local juries by active duty members of the Armed Forces. This rule is unnecessary and imposes no burden on, nor imparts any relevant knowledge on, the public. The rule contains internal DoD processes only, and is wholly contained within DoD internal guidance. Therefore, this part can be removed from the CFR.

DATES: This rule is effective on May 7, 2020.

FOR FURTHER INFORMATION CONTACT: Christa Specht, 703-697-3387.

SUPPLEMENTARY INFORMATION: This rule was originally promulgated under the direction of 10 U.S.C. 982, “Members: service on State and local juries,” to establish uniform DoD policies for active duty members summoned to serve on a State or local jury. The rule was originally finalized on December 22, 2006 (71 FR 76917). This rule is unnecessary and imposes no burden on, nor imparts any relevant knowledge on, the public. It contains internal DoD policies only.

It has been determined that publication of this CFR part removal for public comment is impracticable, unnecessary, and contrary to public interest since it is based on removing DoD internal policies and procedures that are publicly available in DoD Instruction 5525.08, “Service by Members of the Armed Forces on State and Local Juries,” most recently updated on January 3, 2007 (available at https://www.esd.whs.mil/Portals/54/Documents/DD/issuances/dodi/552508p.pdf).

This rule is not significant under Executive Order (E.O.) 12866, “Regulatory Planning and Review.” Therefore, the requirements of E.O. 13771, “Reducing Regulation and Controlling Regulatory Costs,” do not apply. This removal supports a recommendation of the DoD Regulatory Reform Task Force.

List of Subjects in 32 CFR Part 144

Courts; Intergovernmental relations; Military personnel.

PART 144—[REMOVED]

Accordingly, by the authority of 5 U.S.C. 301, 32 CFR part 144 is removed.

Dated: April 20, 2020.
Aaron T. Siegel,
Alternate OSD Federal Register Liaison Officer, Department of Defense.

[FR Doc. 2020-08688 Filed 5-6-20; 8:45 am]

BILLING CODE 5001-06-P